DEPARTMENT OF THE INTERIOR

National Park Service

[NPS-WASO-NAGPRA-NPS0038924; PPWOCRADN0-PCU00RP14.R50000]

Notice of Inventory Completion: Eastern Washington University, Cheney, WA

AGENCY: National Park Service, Interior.

ACTION: Notice.

SUMMARY: In accordance with the Native American Graves Protection and Repatriation Act (NAGPRA), the Eastern Washington University has completed an inventory of human remains and has determined that there is a cultural affiliation between the human remains and Indian Tribes or Native Hawaiian organizations in this notice.

DATES: Repatriation of the human remains in this notice may occur on or after November 22, 2024.

ADDRESSES: Kate Valdez, NAGPRA Coordinator, Eastern Washington University, 214 Showalter Hall, Cheney, WA 99004, telephone (509) 359-3116, email vvaldez6@ewu.edu.

SUPPLEMENTARY INFORMATION: This notice is published as part of the National Park Service's administrative responsibilities under NAGPRA. The determinations in this notice are the sole responsibility of the Eastern Washington University, and additional information on the determinations in this notice, including the results of consultation, can be found in its inventory or related records. The National Park Service is not responsible for the determinations in this notice.

Abstract of Information Available

Human remains representing, at least, one individual has been identified. No associated funerary objects are present. In 1951, human remains were removed from Old Man House (45-KP-2 in Kitsap County WA, at Old Man House State Park, by Warren Snyder, as part of a University of Washington Field Expedition. No known individuals were identified. The human remains were transferred to the Burke Museum where they were later accessioned (Burke Accn. 1966-81). No known individuals were identified. Sometime in the early 1990s, these human remains were transferred to the Confederated Tribes of the Colville Reservation, then subsequently transferred in 1992 to Eastern Washington University for identification. In 2004, Washington State Parks and Recreation Commission returned ownership of the land and collections from the 1951 excavation to the Suquamish Indian Tribe of the Port Madison Reservation, WA.

Human remains representing, at least, one individual has been identified. No associated funerary objects are present. In 1949, human remains representing a minimum of one individual were removed from Bainbridge Island, Kitsap County, WA, by Carroll Burroughs and Douglas Osborne, part of a University of Washington field expedition. No known individuals were identified. The human remains were transferred to the Burke Museum where they were accessioned in 1950 (Burke Accn. 3608). No known individuals were identified. Sometime in the early 1990s, these human remains were transferred to the Confederated Tribes of the Colville Reservation, then subsequently transferred in 1992 to Eastern Washington University for identification.

Cultural Affiliation

Based on the information available and the results of consultation, cultural affiliation is reasonably identified by the geographical location or acquisition history of the human remains described in this notice.

Determinations

The Eastern Washington University has determined that:

• The human remains described in this notice represent the physical remains of two individuals of Native American ancestry.

• There is a connection between the human remains described in this notice and the Suquamish Indian Tribe of the Port Madison Reservation.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after November 22, 2024. If competing requests for repatriation are received, the Eastern Washington University must determine the most appropriate requestor prior to repatriation. Requests for joint repatriation of the human remains are considered a single request and not competing requests. The Eastern Washington University is responsible for sending a copy of this notice to the Indian Tribes and Native Hawaiian organizations identified in this notice.

Authority: Native American Graves Protection and Repatriation Act, 25 U.S.C. 3003, and the implementing regulations, 43 CFR 10.10.

Dated: October 11, 2024.
Melanie O'Brien,
Manager, National NAGPRA Program.

[FR Doc. 2024-24417 Filed 10-22-24; 8:45 am]

BILLING CODE 4312-52-P